DEPARTMENT OF COMMERCE

Patent and Trademark Office

Privacy Act of 1974; System of Records

AGENCY: United States Patent and Trademark Office, Commerce.

ACTION: Notice of proposed new Privacy Act system of records.

SUMMARY: In accordance with the requirements of the Privacy Act of 1974, as amended, the United States Patent and Trademark Office (USPTO) gives notice of a proposed new system of records entitled “COMMERCE/PAT-TM-19 Dissemination Events and Registrations.” We invite the public to comment on the system announced in this publication.

DATES: Written comments must be received no later than January 26, 2007. The proposed system of records will be effective on January 26, 2007, unless the USPTO receives comments that would result in a contrary determination.

ADDRESSES: You may submit written comments by any of the following methods:

• E-mail: Susan.Brown@uspto.gov.

• Fax: (571) 273-0112, marked to the attention of Susan Brown.

• Mail: Susan K. Brown, Records Officer, Office of the Chief Information Officer, Architecture, Engineering and Technical Services, Data Architecture and Services Division, United States Patent and Trademark Office, P.O. Box 1450, Alexandria, VA 22313-1450.

All comments received will be available for public inspection at the Public Search Facilities, Madison East—1st Floor, 600 Dulany Street, Alexandria, VA 22314.

FOR FURTHER INFORMATION CONTACT: Director, Office of External Affairs, United States Patent and Trademark Office, 600 Dulany Street, Alexandria, VA 22314, (571) 272-9300.

SUPPLEMENTARY INFORMATION: The United States Patent and Trademark Office (USPTO) is giving notice of a new system of records that is subject to the Privacy Act of 1974. The proposed system of records will maintain information on individuals who register to participate in special agency-sponsored events and programs designed to disseminate information to the public on topics related to patents and trademarks.

The proposed new system of records, “COMMERCE/PAT-TM-19 Dissemination Events and Registrations,” is published in its entirety below.

COMMERCE/PAT-TM-19

System name:

Dissemination Events and Registrations.

Security classification:

Unclassified.

System location:

Office of External Affairs, United States Patent and Trademark Office, 600 Dulany Street, Alexandria, VA 22314.

Categories of individuals covered by the system:

Individuals who have requested participation in an agency-sponsored event.

Categories of records in the system:

Name of individual, address, phone number, e-mail address, and social security number.

Authority for maintenance of the system:

5 U.S.C. 301, 35 U.S.C. 2, and E.O. 9397.

Purpose(s):

To plan and manage events associated with dissemination of information to the public regarding patents and trademarks.

Routine uses of records maintained in the system, including categories of users and the purposes of such uses:

See Prefatory Statement of General Routine Uses Nos. 4-5, 9-10 and 13, as found at 46 FR 63501-63502 (December 31, 1981).

Disclosure to consumer reporting agencies:

Not applicable.

Policies and practices for storing, retrieving, accessing, retaining, and disposing of records in the system:

Storage:

On electronic media and in paper.

Retrievability:

By individual's name.

Safeguards:

Maintained in areas accessible only to authorized personnel in a building protected by security guards during nonbusiness hours. Systems are password protected.

Retention and disposal:

Records retention and disposal is in accordance with the series record schedules.

System manager(s) and address:

Office of the Under Secretary and Director, Office of External Affairs, United States Patent and Trademark Office, P.O. Box 1450, Alexandria, VA 22313-1450.

Notification procedure:

Information may be obtained from the Office of the Under Secretary and Director, Office of External Affairs, United States Patent and Trademark Office, P.O. Box 1450, Alexandria, VA 22313-1450. Requesters should provide their names in accordance with the inquiry provisions appearing in 37 CFR part 102 subpart B.

Record access procedures:

Requests from individuals should be addressed to the same address as stated in the notification section above.

Contesting record procedures:

The rules for access, contesting contents, and appealing initial determinations by the individual concerned appear in 37 CFR part 102 subpart B. Requests from individuals should be addressed to the same address as stated in the notification section above.

Record source categories:

Subject individuals and those authorized by the individual to furnish information.

Exemptions claimed for the system:

None.

Dated: December 18, 2006.
Susan K. Brown,
Records Officer, USPTO, Office of the Chief Information Officer, Architecture, Engineering and Technical Services Data Architecture and Services Division.

[FR Doc. E6-22122 Filed 12-26-06; 8:45 am]

BILLING CODE 3510-16-P